FEDERAL COMMUNICATIONS COMMISSION

[OMB 3060-1202, OMB 3060-1279; FR ID 159845]

Information Collections Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before October 2, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1202.

Title: Improving 9-1-1 Reliability; Reliability and Continuity of Communications Networks, Including Broadband Technologies.

Form Number: Not Applicable (annual on-line certification).

Type of Review: Revision of a currently approved collection.

Respondents: Business or other for-profit; not-for-profit institutions.

Number of Respondents and Responses: 300 respondents; 305 responses.

Estimated Time per Response: 562 hours (average). Varies by respondent.

Total Annual Burden: 168,651 hours.

Frequency of Response: Annual reporting requirement and recordkeeping requirement.

Obligation to Respond: Mandatory. The statutory authority for this collection of information is contained in sections 1, 4(i), 4(j), 4(o), 201(b), 214(d), 218, 251(e)(3), 301, 303(b), 303(g), 303(r), 307, 309(a), 316, 332, 403, 615a-1, and 615c of the Communications Act of 1934, as amended, 47 U.S.C. 151, 154(i)-(j) & (o), 201(b), 214(d), 218, 251(e)(3),301, 303(b), 303(g), 303(r), 307, 309(a), 316, 332, 403, 615a-1, and 615c.

Total Annual Cost: No Cost.

Needs and Uses: This is a revision of a currently approved information collection necessary to ensure that all Americans have access to reliable and resilient 911 communications, particularly in times of emergency, by requiring certain 911 service providers to certify implementation of key best practices or reasonable alternative measures. The information will be collected in the form of an electronically-filed, annual certification from each covered 911 service provider, as described in the Commission's 2013 Report and Order, in which the provider will indicate whether it has implemented certain industry-backed best practices. Providers that are able to respond in the affirmative to all elements of the certification will be deemed to satisfy the “reasonable measures” requirement in Section 9.19(b) of the Commission's rules. If a provider does not certify in the affirmative with respect to one or more elements of the certification, it must provide a brief explanation of what alternative measures it has taken, in light of the provider's particular facts and circumstances, to ensure reliable 911 service with respect to that element(s). Similarly, a service provider may also respond by demonstrating that a particular certification element is not applicable to its networks and must include a brief explanation of why the element(s) does not apply. Providers are also required to notify the Commission in writing within 60 days of completely ceasing operations as a covered 911 service provider.

The information will be collected by the Public Safety and Homeland Security Bureau, FCC, for review and analysis, to verify that covered 911 service providers are taking reasonable measures to maintain reliable 911 service. In certain cases, based on the information included in the certifications and subsequent coordination with the provider, the Commission may require remedial action to correct vulnerabilities in a service provider's 911 network if it determines that (a) the service provider has not, in fact, adhered to the best practices incorporated in the FCC's rules, or (b) in the case of providers employing alternative measures, that those measures were not reasonably sufficient to mitigate the associated risks of failure in these key areas. The Commission delegated authority to the Bureau to review certification information and follow up with service providers as appropriate to address deficiencies revealed by the certification process.

The purpose of the collection of this information is to verify that covered 911 service providers are taking reasonable measures such that their networks comply with accepted best practices, and that, in the event they are not able to certify adherence to specific best practices, that they are taking reasonable alternative measures. The Commission adopted these rules in light of widespread 911 outages during the June 2012 derecho storm in the Midwest and Mid-Atlantic states, which revealed that multiple service providers did not take adequate precautions to maintain reliable service.

OMB Control Number: 3060-1279.

Title: Connect America Fund—Eligible Locations Adjustment Process (ELAP).

Form Number: N/A.

Type of Review: Extension of a currently approved collection.

Respondents: Business or other for-profit entities, not-for-profit institutions, individuals or households, and state, local or tribal governments.

Number of Respondents and Responses: 296 respondents; 962 responses.

Estimated Time per Response: 2-40 hours.

Frequency of Response: One-time reporting requirement.

Obligation to Respond: Voluntary. Statutory authority for this information collection is contained in 47 U.S.C. 151-154, 254.

Total Annual Burden: 10,804 hours.

Total Annual Cost: No Cost.

Needs and Uses: This information collection addresses the requirements of a process (the eligible locations adjustment process (ELAP)) that the Commission used to facilitate the post-auction review of certain CAF Phase II Auction support recipients' defined deployment obligations (and associated support), on a state-by-state basis, in situations where the number of eligible locations within a state is less than the number of funded locations. Connect America Fund, WC Docket No. 10-90, Order, DA 23-117 (WCB 2023); Connect America Fund, WC Docket Nos. 10-90 et al., Order on Reconsideration, 33 FCC Rcd 1380, 1390-92, paras. 23-28 (2018) (Phase II Auction Reconsideration Order); Connect America Fund, WC Docket No. 10-90, Order, 34 FCC Rcd 10395 (WCB 2019) (adopting rules and requirements necessary to implement this process, consistent with the parameters set forth in the Phase II Auction Reconsideration Order and prior Commission guidance for adjusting defined deployment obligations) (ELAP Order). CAF Phase II Auction support recipients' participation in this process was voluntary.

ELAP required the one-time collection of location information for eligible locations within the state where the participant sought an adjustment to its defined deployment obligation. Eligible locations included both locations that qualify for support (qualifying locations), which the ELAP participant was required to report, and any additional location(s) (prospective location(s)) within eligible areas of the state that the participant wanted to reserve as part of its defined deployment obligation. The total number of eligible locations reported by the participant could not exceed the participant's defined deployment obligation for the state.

In addition, ELAP participants had to submit a description of the method(s) used to identify all qualifying locations, as well as some supporting evidence, such as copies of public records, aerial photography, location information for non-eligible locations, or similar evidence. Participants had to certify the truth and accuracy of this information.

The Bureau announced which participants had met their prima facie evidentiary standard, and the Universal Service Administrative Company (USAC) used certain location information (address, geocoordinates, number of units) filed by these participants to populate a publicly available map (public ELAP Map), which was removed from public inspection at the conclusion of the ELAP process. WCB Announces CAF Phase II Support Recipients Meeting Standards for Continuing with the Eligible Locations Adjustment Process; the Opening of the Stakeholder Registration Period; Extension of Deadline for Stakeholders to File Challenges; Identification of Potentially Affected Tribal Authorities, WC Docket No. 10-90, Public Notice, 36 FCC Rcd 16493, 16494 (WCB 2021).

Other interested parties deemed eligible to participate in ELAP (stakeholders) had the opportunity to challenge the accuracy and completeness of any relevant participant's eligible location information, although none did. To file such a challenge, stakeholders were required to submit alternative location information (of the same kind and in the same format as required of the participant), a brief description of the methods used to identify the location as an eligible location, and supporting evidence. Parties eligible to participate as stakeholders included government entities (state, local, and Tribal) as well as individuals or non-governmental entities with a legitimate and verifiable interest in ensuring broadband service in the relevant areas but excluded any entity or individual with a controlling interest in a competitor of the participant(s) being challenged.

The Bureau committed to using a third-party commercial verifier to confirm the eligibility of any stakeholder who challenged a participant's location information. The Bureau required certification that the stakeholder (exclusive of governmental entities) did not hold a controlling interest in a direct competitor of the relevant participant. The Bureau also separately gathered certain limited information about these stakeholders (e.g., name and contact information).

All ELAP information was filed and is maintained in a new module within the High-Cost Universal Service Broadband Portal (HUBB) (OMB Control No. 3060-1228). The module had integrated instructions and guidance for submitting information. This module incorporated several features similar to those associated with the reporting of deployed location information in the HUBB. For example, the module had an automated validation system that generated error messages when the location information submitted by ELAP parties failed to meet reporting parameters (such as redundancies, required file type) as specified in the ELAP Order. The module also generated notices where correction, supplementation, or redaction of information is necessary. Participants and stakeholders could pre-file information and correct, update, add, or delete information prior to their respective filing deadline.

Unlike deployed location information collected pursuant to OMB Control No. 3060-1228, all ELAP information, including the description of methods and supporting documentation as well as location data, except the location data published in the public ELAP Map, has been and will continue to be treated as presumptively confidential.

Federal Communications Commission.
Marlene Dortch,
Secretary, Office of the Secretary.

[FR Doc. 2023-16590 Filed 8-2-23; 8:45 am]

BILLING CODE 6712-01-P